DEPARTMENT OF COMMERCE

International Trade Administration

[A-533-857]

Oil Country Tubular Goods From India: Rescission of Antidumping Duty Administrative Review; 2019-2020

AGENCY: Enforcement and Compliance, International Trade Administration, Department of Commerce.

SUMMARY: The Department of Commerce (Commerce) is rescinding the administrative review of the antidumping duty (AD) order on oil country tubular goods (OCTG) from India for the period of review (POR) covering September 1, 2019, through August 31, 2020, based on the timely withdrawal of the request for review.

DATES: Applicable April 13, 2021.

FOR FURTHER INFORMATION CONTACT: Gene H. Calvert, AD/CVD Operations, Office VII, Enforcement and Compliance, International Trade Administration, U.S. Department of Commerce, 1401 Constitution Avenue NW, Washington, DC 20230; telephone: (202) 482-3586.

SUPPLEMENTARY INFORMATION:

Background

On September 1, 2020, Commerce published a notice of opportunity to request an administrative review of the AD order on OCTG from India covering the POR.¹ On September 30, 2020, Maverick Tube Corporation, Tenaris Bay City, Inc., IPSCO Tubulars Inc., and the United States Steel Corporation (collectively, Domestic Interested Parties), timely requested an administrative review of the AD order with respect to four companies: Jindal SAW Limited; GVN Fuels Limited; Maharashtra Seamless Limited; and Jindal Pipe Limited.² Commerce received no other requests for an administrative review of the AD order for the POR.

¹ See Antidumping or Countervailing Duty Order, Finding, or Suspended Investigation; Opportunity to Request Administrative Review, 85 FR 54349 (September 1, 2020).

² See Domestic Interested Parties' Letter, “Oil Country Tubular Goods from India: Request for Administrative Review,” dated September 30, 2020.

On October 30, 2020, pursuant to section 751(a) of the Tariff Act of 1930, as amended (the Act), and 19 CFR 351.221(c)(1)(i), Commerce initiated an administrative review of the AD order covering the POR.³ On January 15, 2021, the Domestic Interested Parties timely withdrew their request for review with respect to each of the four companies.⁴

³ See Initiation of Antidumping and Countervailing Duty Administrative Reviews, 85 FR 68840 (October 30, 2020) (Initiation Notice).

⁴ See Domestic Interested Parties' Letter, “Oil Country Tubular Goods from India: Withdrawal of Request for Administrative Review,” dated January 15, 2021.

Rescission of Administrative Review

Pursuant to 19 CFR 351.213(d)(1), Commerce will rescind an administrative review, in whole or in part, if the parties that requested the review withdraw their requests within 90 days of the publication date of the notice of initiation of the requested review. The Domestic Interested Parties withdrew their request for review within 90 days of the publication of the Initiation Notice, and no other party requested an administrative review of the AD order for the POR. Therefore, in accordance with 19 CFR 351.213(d)(1), Commerce is rescinding the administrative review of the AD order on OCTG from India for the POR covering September 1, 2019, through August 31, 2020, in its entirety.

Assessment

Commerce will instruct U.S. Customs and Border Protection (CBP) to assess antidumping duties on all appropriate entries of OCTG from India during the POR at rates equal to the cash deposit rate of estimated antidumping duties required at the time of entry, or withdrawal from warehouse, for consumption, in accordance with 19 CFR 351.212(c)(1)(i). Commerce intends to issue appropriate assessment instructions to CBP no earlier than 35 days after the date of publication of this rescission notice in the Federal Register.

Notification to Importers

This notice serves as a final reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of doubled antidumping duties.

Notification Regarding Administrative Protective Order

This notice also serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

Notification to Interested Parties

This notice is issued and published in accordance with sections 751(a)(1) and 777(i)(1) of the Act, and 19 CFR 351.213(d)(4).

Dated: April 6, 2021.
James Maeder,
Deputy Assistant Secretary for Antidumping and Countervailing Duty Operations.

[FR Doc. 2021-07547 Filed 4-12-21; 8:45 am]

BILLING CODE 3510-DS-P